DEPARTMENT OF JUSTICE

Notice of Lodging of a Consent Decree Pursuant to the Comprehensive Environmental Response, Compensation, and Liability Act and Resource Conservation and Recovery Act

Notice is hereby given that a proposed consent decree in United States v. Abex Aerospace Division, et al., Civil No. 00-12471 CAS, was lodged on Nov. 24, 2000, with the United States District Court for the Central District of California (“Abex Decree”). The proposed Consent Decree would resolve certain claims under sections 106 and 107 of the Comprehensive Environmental Response, Compensation, and Liability Act of 1980, 42 U.S.C. 9606 and 9607, as amended, as well as certain claims under Section 7003 of the Resource Conservation and Recovery Act, 42 U.S.C. 6973, brought against 120 defendants (collectively “Settling Defendants”), to recover response costs incurred by the Environmental Protection Agency and to undertake certain response actions in connection with the release of hazardous substances at a portion of the Omega chemical Corporation Superfund Site (“Site”). The Settling Defendants are liable as persons who arranged for the disposal or treatment of hazardous substances (or waste) or who arranged for transport for disposal or treatment of such substances at the Site, or as a person who accepted hazardous substances (or waste) for transport to the Site, or succeeded to the liabilities of persons who made such arrangements or accepted hazardous substances (or waste) for transport. Under the proposed Consent Decree, the Settling Defendants will pay $282,636 to the Hazardous Substances Superfund to reimburse the United States for Past Response Costs through May 1999, plus interest, and all Oversight Costs. In addition, under the proposed Consent Decree, the Settling Defendants have agreed to perform certain response actions at the Site.

The Department of Justice will receive, for a period of thirty (30) days from the date of this publication, comments relating to the proposed Consent Decree. Comments should be addressed to the Assistant Attorney General for the Environment and Natural Resources Division, Department of Justice, P.O. Box 7611, Washington, D.C. 20530, and should refer to United States v. Abex Aerospace, et al., C.D. CA, Civil No. 00-12471 CAS, DOJ Ref. #90-11-3-06529. Commenters may request an opportunity for a public meeting in the affected area, in accordance with Section 7003(d) of RCRA, 42 U.S.C. § 6973(d).

The Consent Decree may be examined at the Region 9 Office of the Environmental Protection Agency, 75 Hawthorne Street, San Francisco, CA 94105 and the United States Attorney's Office for the Central District of California, Federal Building 300 North Los Angeles Street, Room 7516, Los Angeles, CA 90012 c/o Assistant U.S. Attorney Lawrence Kole. A copy of the proposed consent decree may be obtained by mail from the Consent Decree Library, Post Office Box 7611, Washington, D.C. 20044. In requesting copies please refer to the referenced case and enclose a check in the amount of $43.75 (25 cents per page reproduction costs), payable to the Consent Decree Library.

Walker Smith,
Principal Deputy Chief, Environmental Enforcement Section, Environment and Natural Resources Division.

[FR Doc. 00-31769 Filed 12-13-00; 8:45 am]

BILLING CODE 4410-15-M